DEPARTMENT OF TRANSPORTATION

National Highway Traffic Safety Administration

49 CFR Part 571

[Docket No. NHTSA 1998-4367]

RIN 2127-AH92

Federal Motor Vehicle Safety Standards; Lamps, Reflective Devices, and Associated Equipment

AGENCY: National Highway Traffic Safety Administration (NHTSA), DOT.

ACTION: Withdrawal of rulemaking.

SUMMARY: In 1998, the Japan Auto Parts Industries Association (JAPIA) petitioned for NHTSA to amend the Federal motor vehicle lighting standard to eliminate an existing requirement that the upper beam light source be no higher than the lower beam light source for motorcycle headlighting systems, and also to permit multiple lower beam light sources and multiple upper beam light sources within a single motorcycle headlamp (total of four light sources). After requesting additional information in support of the petition, NHTSA granted the JAPIA petition on May 21, 2001. For reasons discussed in this document, the agency is withdrawing this rulemaking.

FOR FURTHER INFORMATION CONTACT: The following persons at the NHTSA, 400 7th Street, SW., Washington, DC 20590.

For non-legal issues, you may call Mr. Kenneth O. Hardie, Office of Crash Avoidance Standards (Telephone: 202-366-6987) (Fax: 202-493-2739).

For legal issues, you may call Mr. George Feygin, Office of Chief Counsel (Telephone: 202-366-2992) (Fax: 202-366-3820).

SUPPLEMENTARY INFORMATION:

I. Background

Paragraph S7.9 of Federal Motor Vehicle Safety Standard (FMVSS) No. 108, Lamps, Reflective Devices, and Associated Equipment, specifies the requirements for motorcycle headlighting systems. Paragraph S7.9.6 specifies location requirements for motorcycle headlamps. S7.9.6.2(a) applies to motorcycles equipped with headlighting systems consisting of one headlamp; S7.9.6.2(b) applies to motorcycles equipped with headlighting systems consisting of two headlamps, each of which provides both an upper and lower beam; S7.9.6.2(c) applies to motorcycles equipped with headlighting systems consisting of two headlamps, one of which provides an upper beam and one of which provides a lower beam. For headlighting systems covered by subparagraphs (a) and (c), the upper beam light source is not permitted to be higher than the lower beam light source. Paragraph (b) is silent as to the upper beam light source location.

In a petition dated October 13, 1998, JAPIA asked NHTSA to eliminate the restriction on upper beam light source location in S7.9.6.2(a) and S7.9.6.2(c) to allow the upper beam light source to be mounted above the lower beam light source.¹ Additionally, JAPIA asked NHTSA to permit a motorcycle headlighting system consisting of a single headlamp (S7.9.6.2(a)) to contain two upper beam and two lower beam light sources for a total of four distinct light sources in a single headlamp. For headlighting systems consisting of two headlamps, the petition asked the agency to instead allow for four distinct headlamps, two of which would provide the upper beam, and the other two the lower beam.

¹ To examine the JAPIA petition, please go to http://dms.dot.gov/ (Docket No. NHTSA-1998-4367-18).

In support of its first request, JAPIA stated that the restriction on the location of upper beam light source relative to the location of lower beam light source is not necessary because headlamps must be located at least 22 inches above the road surface and not more than 54 inches above the road surface. JAPIA stated that the upper beam light source would not present any visibility or conspicuity concerns anywhere within that location range. The petition further stated that the Economic Commission for Europe (ECE) lighting regulations ² do not restrict location of the upper beam light source and that elimination of this restriction would facilitate international harmonization.

² See ECE Reg. 53 (October 1, 2002): http://www.unece.org/trans/main/wp29/wp29regs/53rv1e.pdf.

In support of its second request, JAPIA stated that the European Economic Community requirements in 93/92/EEC ³ allow for installation of four independent headlamps on motorcycles. Again, JAPIA stated that allowing this in the United States would facilitate international harmonization because it would allow for common design of headlamp systems in Europe and U.S.

³ See http://europa.eu.int/comm/enterprise/automotive/directives/motos/dir93_92_cee.html.

We granted JAPIA's petition by letter dated May 21, 2001. The agency did not issue a notice of proposed rulemaking or any other rulemaking document subsequent to the granting of the petition.

II. Reason for Withdrawal

After careful consideration, NHTSA has decided to withdraw this rulemaking.

The requirement that upper beam light sources be no higher than lower beam light sources is a longstanding one and applies across vehicle types. The purpose of the requirement is to help (for any particular vehicle design) ensure good visibility while driving with the lower beams. Generally, drivers can see further when the lower beam light sources are mounted higher. If a manufacturer selects a design in which upper and lower beam light sources are at different heights, the requirement ensures that the lower beam lights are mounted at the higher height, thereby providing slightly better visibility.

While we continue to believe that it might be appropriate at some point to consider changing the existing requirement, we have decided, on further consideration, that such a change should not be undertaken without additional analysis and research related to visibility and glare. Given the complexity of the issues involved, however, and considering agency priorities and allocation of limited resources available to best carry out the agency's safety mission, NHTSA has decided not to pursue further rulemaking on this issue at this time.

As to JAPIA's request to allow multiple lower and upper beam light sources within a single headlamp, that issue was resolved in an interpretation letter sent by the agency to Mr. Mills of Triumph Motorcycles on May 24, 2002.⁴

⁴ http://www.nhtsa.dot.gov/cars/rules/interps/files/24157.ztv.html.

For the reasons discussed above, NHTSA is withdrawing the rulemaking on the JAPIA petition.

Authority: 49 U.S.C. 322, 30111, 30115, 30117, and 30166; delegation of authority at 49 CFR 1.50.

Issued: September 13, 2004.
Stephen R. Kratzke,
Associate Administrator for Rulemaking.

[FR Doc. 04-21012 Filed 9-16-04; 8:45 am]

BILLING CODE 4910-59-P